DEPARTMENT OF THE INTERIOR

Bureau of Land Management

[CO-200-1020-AC-241A]

Notice of Amendment of Meeting Date, Front Range Resource Advisory Council (Colorado)

AGENCY: Bureau of Land Management, Interior.

ACTION: Notice of amendment of public meeting date.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting originally published in the July 8, 2003, Federal Register for August 12 and 13, 2003, has been changed and will be held on August 13 only. The meeting will be held on August 13 at the Holy Cross Abbey Community Center, 2951 E. Highway 50, Canon City, Colorado from 9:15 a.m. to 4 p.m.

SUPPLEMENTARY INFORMATION: The 15 member Council advises the Secretary of the Interior, through the Bureau of Land Management, on a variety of planning and management issues associated with public land management in the Front Range Center, Colorado. The planned agenda topic is for the Council to discuss the Sustaining Working Landscapes Initiative Overview and provide comments and advice to the BLM Colorado State Director through the Center Manager.

All meetings are open to the public. The public is encouraged to make oral comments to the Council between 10 a.m. and 11 a.m. or written statements may be submitted for the Councils consideration. Depending on the number of persons wishing to comment and time available, the time for individual oral comments may be limited. Summary minutes for the Council Meeting will be maintained in the Front Range Center Office and will be available for public inspection and reproduction during regular business hours within thirty (30) days following the meeting.

FOR FURTHER INFORMATION CONTACT: Bureau of Land Management (BLM), Attn: Ken Smith, 3170 East Main Street, Canon City, Colorado 81212. Phone (719) 269-8500.

Dated: August 4, 2003.
John L. Carochi,
Front Range Center Manager.

[FR Doc. 03-20236 Filed 8-8-03; 8:45 am]

BILLING CODE 4310-JB-M